NATIONAL AERONAUTICS AND SPACE ADMINISTRATION

[Notice: (22-060)]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for the purpose of soliciting, from the aeronautics community and other persons, research, and technical information relevant to program planning.

DATES: Wednesday, August 31, 2022, 12:00 p.m.-5:30 p.m., PDT and Thursday, September 1, 2022, 8:00 a.m.-11:00 a.m., PDT.

ADDRESSES: NASA Ames Research Center, NASA Ames Conference Center, Building 3 Ballroom, 500 Severyns Road, Ballroom Room, Moffett Field, CA 94035.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be available to the public online via MS Teams. You must use a touch-tone phone to participate in this meeting. Any interested person may dial the USA conference number 256-715-9946, passcode: 508053427#, followed by the # sign to participate in this meeting by telephone on both days. The MS Teams link is https://bit.ly/3bbHBz3 on both days. Enter as a guest and type your name. Note: If dialing in, please “mute” your telephone. The agenda for the meeting includes the following topics:

—Advanced Capabilities for Emergency Response Operations Formulation

—Advanced Air Mobility Mission Update

—Zero Emissions Strategy

—University Innovations

It is imperative that the meeting be held on these dates to the scheduling priorities of the key participants.

Patricia Rausch,
Advisory Committee Management Officer, National Aeronautics and Space Administration.

[FR Doc. 2022-17521 Filed 8-15-22; 8:45 am]

BILLING CODE 7510-13-P